DEPARTMENT OF ENERGY

Federal Energy Regulatory Commission

[Docket No. PR97-1-000]

Consumers Power Company; Notice of Extension of Time

March 4, 2005.

On March 1, 2004, Consumers Energy Company (Consumers) filed a motion for an extension of time to file a title transfer tracking (TTT) rate proposal pursuant to the Commission's order issued February 14, 2005, in the above-docketed proceeding. 110 FERC ¶ 61,156 (2005). The Commission's order directed Consumers to file a TTT rate for gas transported in conjunction with service under its FERC blanket certificate, along with appropriate cost support within fifteen days of the date of the order. In its motion, Consumers states that because a number of key personnel who were personally involved with this matter, including its General Counsel, have retired or otherwise ended their employment with Consumers, more time is needed to prepare and file the TTT compliance filing. The motion also states that an extension of time is unlikely to delay the ultimate resolution in this proceeding.

Upon consideration, notice is hereby given that an extension of time to comply with the Commission's February 14, 2005, Order is granted to and including March 16, 2005, as requested by Consumers.

Magalie R. Salas,
Secretary.

[FR Doc. E5-1031 Filed 3-11-05; 8:45 am]

BILLING CODE 6717-01-P